DEPARTMENT OF COMMERCE

National Oceanic and Atmospheric Administration

[RTID 0648-XE889]

Recommendations for Restoring American Seafood Competitiveness

AGENCY: National Marine Fisheries Service (NMFS), National Oceanic and Atmospheric Administration (NOAA), Commerce.

ACTION: Notice; request for comment.

SUMMARY: On April 17, 2025, the President issued an Executive Order (E.O.) on Restoring American Seafood Competitiveness. NMFS requests public comment from interested parties on suggestions to improve fisheries management and science within the requirements of applicable laws, as required in the E.O. In addition, NMFS will host a listening session to receive additional public comment. The intent of these public engagements is for NMFS to obtain input on fishery-related regulatory barriers, fisheries management, science, and other priority needs identified in the E.O. designed to strengthen the Nation's seafood supply and competitiveness.

DATES: Comments must be received by 11:59 p.m. EDT on October 14, 2025.

ADDRESSES: Responses should be submitted via email to nmfs.seafoodstrategy@noaa.gov. Include “E.O. 14276 Notice Response” in the subject line of the message.

FOR FURTHER INFORMATION CONTACT: Kelly Denit, Director, Office of Sustainable Fisheries, National Marine Fisheries Service, 301-427-8517.

SUPPLEMENTARY INFORMATION: On April 17, 2025, President Trump issued E.O. 14276 titled “Restoring American Seafood Competitiveness”, which expands on the 2020 E.O. 13921 titled “Promoting American Seafood Competitiveness and Economic Growth.” Four provisions of E.O. 14276 are being addressed through this request for public comment.

First, section 4(a) directs the Secretary of Commerce to identify “the most heavily overregulated fisheries requiring action and take appropriate action to reduce the regulatory burden on them, in cooperation with the Regional Fishery Management Councils, interagency partners, and through public-private partnerships, as appropriate.”

Second, section 4(a)(ii) directs the Secretary of Commerce to “solicit direct public comments, including from fishing industry members, technology experts, marine scientists, and other relevant parties for innovative ideas to improve fisheries management and science within the requirements of the Magnuson-Stevens Fishery Conservation and Management Act (16 U.S.C. 1801 et seq.); the Endangered Species Act of 1973 (16 U.S.C. 1531 et seq.); the Marine Mammal Protection Act (16 U.S.C. 1361 et seq.); and other applicable laws.”

Third, section 4(a)(iii) directs the Secretary of Commerce to pursue “direct public engagement to ensure executive departments and agencies are focusing core fisheries management and science functions to directly support priority needs that strengthen our Nation's seafood supply chain.”

Finally, section 4(c) states that the Secretary of Commerce shall direct NMFS to “incorporate less expensive and more reliable technologies and cooperative research programs into fishery assessments, expand exempted fishing permit programs, and modernize data collection and analytical practices to promote fishing opportunities and improve the responsiveness of fisheries management to real-time ocean conditions.”

Over the past few years overall commercial fishery landings within the United States have declined. Multiple factors influenced these landing declines. In response to section 4(a), the following initial list includes heavily overregulated stocks or fisheries with large reductions in landings or revenue as well as stocks or fisheries identified via recent stakeholder input. When considering the questions below, please identify specific fishery challenges that the NMFS or partner agencies could address through innovative ideas or new technologies that focus on the concepts identified in E.O. 14276. The fisheries or stocks are organized into the following four categories:

• Multispecies fisheries (e.g., Alaskan groundfish, New England groundfish, South Atlantic snapper-grouper)

• Shellfish (e.g., lobster, shrimp, scallop, surf clam and ocean quahog)

• Atlantic and Pacific highly migratory species (e.g., tunas)

• Other pelagics (e.g., squid, mackerel)

Through this request for public comment, NMFS seeks written public input on the following issues. When commenting, costs to the Government, regulated industry, or both should be identified to the extent possible. Please submit input via email to nmfs.seafoodstrategy@noaa.gov (see ADDRESSES).

1. NMFS is soliciting comments on regulations that govern fishing activities that may be suspended, revised, or rescinded, consistent with section 4(a) of the E.O., the Magnuson-Stevens Fishery Conservation and Management Act, and other applicable law. When commenting, please provide specific information about the regulation(s), fishery or fisheries involved, and other pertinent information necessary to fully outline the issue and changes recommended. NMFS is also engaging with the Regional Fishery Management Councils on ways to reduce burdens on domestic fishing and to increase production, consistent with section (4)(a)(i) of the E.O. The public is encouraged to engage with the Regional Fishery Management Councils in addition to providing comments directly to NMFS through this notice.

2. NMFS is soliciting comments on ways to improve fisheries management and science within the requirements of applicable laws (the Magnuson-Stevens Fishery Conservation and Management Act; the Endangered Species Act of 1973; the Marine Mammal Protection Act; and other applicable laws, consistent with the E.O. section (4)(a)(ii)). Commenters are encouraged to provide:

a. Details about the challenges faced by a specific fishery or fisheries, suggestions for innovative improvements, and any supporting evidence to further support the recommendation being offered (e.g., a new gear that has been tested in the fishery or a technology that can be applied to fisheries).

b. Specific examples of existing Federal fishery regulations or policies that, if appropriately modified or streamlined consistent with the requirements of applicable laws, could enhance operational efficiencies, access, or economic profitability for U.S. fishing businesses.

3. NMFS is soliciting comments on the following concepts outlined in section (4)(c) of the E.O.:

a. How can less expensive and more reliable technologies and cooperative research be used to support fisheries assessments?

b. How can NMFS modernize data collection and analytical practices to improve the responsiveness of fisheries management to real-time ocean conditions?

c. What types of data, forecasting tools, or information products are most needed by U.S. fishing businesses to adapt their operations effectively to changing economic and/or environmental conditions and maintain access to fishery resources, and how can NMFS best support the development and dissemination of such resources?

4. NMFS is also soliciting comments on exempted fishing permit programs. NMFS executes exempted fishing permit programs throughout the country. These programs provide for exemptions from specified regulatory requirements to test new fishing gear or techniques, and have provided valuable information for science and management. Section (4)(c) of the E.O. directs expansion of these programs. NMFS is soliciting comments on ways to expand exempted fishing permit programs to promote fishing opportunities nationwide.

In addition to this request for public comment, NMFS will host a listening session as a means of “direct public engagement to ensure executive departments and agencies are focusing core fisheries management and science functions to directly support priority needs that strengthen our Nation's seafood supply chain” as outlined in section 4(a)(iii) of E.O. 14276. Information on this listening session will be provided on the NOAA website https://www.fisheries.noaa.gov/action/restoring-americas-seafood-competitiveness, as well as widely distributed through NMFS social media and other public communications.

Relationship to E.O. 13921

E.O. 14276 builds upon the work conducted under E.O. 13921, which was signed on May 7, 2020, and also promoted American seafood competitiveness and economic growth. E.O. 13921 called for the “expansion of sustainable U.S. seafood production through: More efficient and predictable aquaculture permitting; cutting-edge research and development; regulatory reform to maximize commercial fishing; and enforcement of common-sense restrictions on seafood imports that do not meet American standards.”

Dated: August 22, 2025.
Samuel D. Rauch III,
Deputy Assistant Administrator for Regulatory Programs, National Marine Fisheries Service.

[FR Doc. 2025-16377 Filed 8-26-25; 8:45 am]

BILLING CODE 3510-22-P